DEPARTMENT OF ENERGY

Federal Energy Regulatory Commission

[Project No. 1893-083]

CRP NH Garvin Falls, LLC, CRP NH Hooksett, LLC, CRP NH Amoskeag, LLC; Notice of Effectiveness of Withdrawal of Application for Amendment of License

On September 27, 2022, CRP NH Garvin Falls, LLC; CRP NH Hooksett, LLC; and CRP NH Amoskeag, LLC (licensees) filed an application for amendment of license for the 29.9-megawatt Merrimack River Hydroelectric Project No. 1893. On February 23, 2023, the licensees filed a request to withdraw their application.

No motion in opposition to the request for withdrawal has been filed, and the Commission has taken no action to disallow the withdrawal. Pursuant to Rule 216(b) of the Commission's Rules of Practice and Procedure,¹ the withdrawal of the application became effective on March 10, 2023, and this proceeding is hereby terminated.

¹ 18 CFR 385.216(b) (2021).

Dated: March 14, 2023.
Kimberly D. Bose,
Secretary.

[FR Doc. 2023-05660 Filed 3-20-23; 8:45 am]

BILLING CODE 6717-01-P